DEPARTMENT OF AGRICULTURE

Food Safety and Inspection Service

[Docket No. FSIS-2008-0012]

Codex Alimentarius Commission: Meeting of the Codex Committee on Fresh Fruits and Vegetables

AGENCY: Office of the Under Secretary for Food Safety, USDA.

ACTION: Notice of public meeting and request for comments.

SUMMARY: The Office of the Under Secretary for Food Safety, U.S. Department of Agriculture (USDA) and the Agricultural Marketing Service (AMS), USDA, are sponsoring a public meeting on April 25, 2008. The objective of the public meeting is to provide information and receive public comments on agenda items and draft United States positions that will be discussed at the 14th Session of the Codex Committee on Fresh Fruits and Vegetables (CCFFV) of the Codex Alimentarius Commission (Codex), which will be held in Mexico City, Mexico, from May 12-17, 2008. The Under Secretary for Food Safety and AMS recognize the importance of providing interested parties the opportunity to obtain background information on the 14th Session of the CCFFV and to address items on the agenda.

DATES: The public meeting is scheduled for Friday, April 25, 2008, at 10 a.m.

ADDRESSES: The public meeting will be held in Room 2068, USDA South Building, at 1400 Independence Ave., SW., Washington, DC 20250. Documents related to the 14th Session of the CCFFV will be accessible via the World Wide Web at the following address: http://www.codexalimentarius.net/current.asp.

The U.S. Delegate to the 14th Session of the CCFFV, Mr. Dorian LaFond, AMS, invites interested U.S. parties to submit their comments electronically to the following e-mail address: dorian.lafond@usda.gov.

Registration: You may register electronically to dorian.lafond@usda.gov. Early registration is encouraged because it will expedite entry into the building. Because the meeting will be held in a Federal building, you should also bring photo identification and plan for adequate time to pass through security screening systems.

For Further Information About the 14th CCFFV Session Contact: Mr. Dorian LaFond, International Standards Coordinator, AMS, Fruit and Vegetable Programs, Stop 0235, 1400 Independence Ave, SW., Washington, DC 20250, Phone: (202) 690-4944, e-mail: dorian.lafond@usda.gov.

For Further Information About the Public Meeting Contact: Syed Ali, Staff Officer, U.S. Codex Office, Food Safety and Inspection Service (FSIS), Room 4861, South Building, 1400 Independence Avenue, SW., Washington, DC 20250, Phone: (202) 720-0574, Fax: (202) 720-3157, e-mail: syed.ali@fsis.usda.gov.

SUPPLEMENTARY INFORMATION:

Background

The Codex Alimentarius Commission (Codex) was established in 1963 by two United Nations organizations, the Food and Agriculture Organization and the World Health Organization. Through adoption of food standards, codes of practice, and other guidelines developed by its committees, and by promoting their adoption and implementation by governments, Codex seeks to protect the health of consumers and ensure that fair practices are used in trade. The CCFFV elaborates world wide standards and codes of practice for fresh fruits and vegetables. The CCFFV is hosted by Mexico.

Issues To Be Discussed at the Public Meeting

The following items on the agenda for the 14th CCFFV Session will be discussed during the public meeting:

• Matters referred to the CCFFV from the Codex Alimentarius Commission and other Codex bodies.

• Matters arising from other international organizations on the Standardization of Fresh Fruits and Vegetables.

• Proposed Layout for Codex Standards for Fresh Fruits and Vegetables.

• Draft Codex Standard for Tomatoes.

• Draft Sections 3—Provisions Concerning Sizing (Draft Standard for Tomatoes).

• Draft Codex Standard for Bitter Cassava.

• Draft Codex Guidelines for the Inspection and Certification of Fresh Fruits and Vegetables for Conformity to Quality Standards.

• Proposed Draft Codex Standard for Apples.

• Proposals for Amendments to the Priority List for the Standardization of Fresh Fruits and Vegetables.

Each issue listed will be fully described in documents distributed, or to be distributed, by the Secretariat prior to the meeting. Members of the public may access or request copies of these documents via the World Wide Web at the following address: http://www.codexalimentarius.net/current.asp.

Public Meeting

At the April 25, 2008, public meeting, draft U.S. positions on the agenda items will be described and discussed, and attendees will have the opportunity to pose questions and offer comments. Written comments may be sent electronically to the U.S. Delegate for the 14th CCFFV Session, Dorian LaFond, at dorian.lafond@usda.gov. Written comments should state that they relate to activities of the 14th CCFFV Session.

Additional Public Notification

Public awareness of all segments of rulemaking and policy development is important. Consequently, in an effort to ensure that minorities, women, and persons with disabilities are aware of this notice, FSIS will announce it online through the FSIS Web page located at (http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC, on: April 15, 2008.
Paulo M. Almeida,
Acting U.S. Manager for Codex Alimentarius.

[FR Doc. E8-8473 Filed 4-18-08; 8:45 am]

BILLING CODE 3410-DM-P